ENVIRONMENTAL PROTECTION AGENCY

[EPA-R09-OAR-2017-0473; FRL-9987-65-Region 9]

Clean Air Act Prevention of Significant Deterioration Permit Issued to Palmdale Energy LLC for the Palmdale Energy Project

AGENCY: Environmental Protection Agency.

ACTION: Notice of final action.

SUMMARY: This notice announces that the Environmental Protection Agency, Region IX (EPA Region IX) issued a final permit decision to Palmdale Energy, LLC for a Clean Air Act Prevention of Significant Deterioration (PSD) permit for the construction of the Palmdale Energy Project (PEP).

DATES: The final PSD permit decision for the PEP was issued and became effective on October 25, 2018. Pursuant to section 307(b)(1) of the Clean Air Act, judicial review of this final permit decision, to the extent it is available, may be sought by filing a petition for review in the United States Court of Appeals for the Ninth Circuit within 60 days of December 11, 2018.

ADDRESSES: The EPA established a docket for this action under Docket ID No. EPA-R09-OAR-2017-0473. All documents in the docket are listed on the https://www.regulations.gov website. Although listed in the docket index, some information is not publicly available, e.g., Confidential Business Information (CBI) or other information the disclosure of which is restricted by statute. Certain other material, such as copyrighted material, is not placed on the internet and will be publicly available only in hard copy form. Publicly available docket materials are available through http://www.regulations.gov. Please contact the person identified in the FOR FURTHER INFORMATION CONTACT section for additional information about accessing docket materials for this action.

FOR FURTHER INFORMATION CONTACT: Lisa Beckham, Permits Office (Air-3), U.S. Environmental Protection Agency, Region IX, (415) 972-3811, beckham.lisa@epa.gov. Anyone who wishes to review the EPA's Environmental Appeals Board (EAB) decision described below or documents in the EAB's electronic docket for its decision can obtain them at http://www.epa.gov/eab/. The final PSD permit is available in the electronic docket for this action at http://www.regulations.gov (Docket ID: EPA-R09-OAR-2017-0473).

SUPPLEMENTARY INFORMATION:

Notice of Final Action

On April 25, 2018, EPA Region IX initially issued PSD Permit No. SE 17-01 to Palmdale Energy, LLC under 40 CFR 124.15, authorizing the construction and operation of the PEP. By its own terms, and consistent with 40 CFR 124.15(b), the effective date of the permit was delayed as the result of the filing of a petition for review of the Region's permit decision with the EAB.

On October 23, 2018, the EAB denied review of the permit decision. See In re Palmdale Energy LLC, PSD Appeal No. 18-01 (EAB Oct. 23, 2018), 17 E.A.D. __ (Order Denying Review). Following the EAB's action, pursuant to 40 CFR 124.19(l)(2), EPA Region IX issued a final permit decision on October 25, 2018. All conditions of the PEP PSD permit, as initially issued by EPA Region IX on April 25, 2018, were final and effective as of October 25, 2018.

Dated: November 13, 2018.
Elizabeth J. Adams,
Division Director, Region IX.

[FR Doc. 2018-26687 Filed 12-10-18; 8:45 am]

BILLING CODE 6560-50-P